SOCIAL SECURITY ADMINISTRATION

Agency Information Collection Activities: Proposed Request

The Social Security Administration (SSA) publishes a list of information collection packages that will require clearance by the Office of Management and Budget (OMB) in compliance with Public Law 104-13, the Paperwork Reduction Act of 1995, effective October 1, 1995. The information collection request included in this notice is for a revision to an existing information collection.

SSA is soliciting comments on the accuracy of the agency's burden estimate; the need for the information; its practical utility; ways to enhance its quality, utility, and clarity; and on ways to minimize burden on respondents, including the use of automated collection techniques or other forms of information technology. Written comments and recommendations regarding the information collection should be submitted to the SSA Reports Clearance Officer. The information can be mailed and/or faxed to the individuals at the addresses and fax number listed below:

Social Security Administration, DCFAM, (SSA), Attn: Reports Clearance Officer, 1333 Annex Building, 6401 Security Blvd., Baltimore, MD 21235. Fax: 410-965-6400.

The information collection listed below is pending at SSA and will be submitted to OMB within 60 days from the date of this notice. Therefore, your comments should be submitted to SSA within 60 days from the date of this publication. You can obtain a copy of the OMB clearance package by calling the SSA Reports Clearance Officer at 410-965-0454, or by writing to the address listed above.

Application for a Social Security Card—20 CFR 422.103-.110—0960-0066. Forms SS-5 (used in the United States) and SS-5-FS (used outside the United States) are used to apply for original and replacement Social Security cards. Changes are being made to these forms to reflect new statutory limits on the number of allowable replacement cards. The respondents are requestors of new or replacement Social Security cards.

Note: This Notice is for the full clearance of the collection, which received a temporary emergency clearance through April 2006.

Application scenario | Number of annual respondents | Completion time (in minutes) | Burden hours
Respondents who do not have to provide parents' SSNs | 13,000,000 | 8½ | 1,841,667
Respondents who are asked to provide parents' SSNs (for application for original SSN cards for children under age 18) | 540,000 | 9 | 81,000
Applicants age 12 or older who need to answer additional questions so SSA can determine whether an SSN was previously assigned | 40,000 | 9½ | 6,333
Applicants asking for a replacement SSN card beyond the new allowable limits (i.e., who must provide additional documentation to accompany the application) | 4,000 | 60 | 4,000
Totals | 13,584,000 |  | 1,933,000

Dated: December 30, 2005.
Elizabeth A. Davidson,
Reports Clearance Officer, Social Security Administration.

[FR Doc. E6-38 Filed 1-5-06; 8:45 am]

BILLING CODE 4191-02-P